DEPARTMENT OF AGRICULTURE

Forest Service

Central Idaho Resource Advisory Committee

AGENCY: Forest Service, Agriculture (USDA).

ACTION: Notice of meetings.

SUMMARY: The Central Idaho Resource Advisory Committee (RAC) will hold public meetings according to the details shown below. The committee is authorized under the Secure Rural Schools and Community Self-Determination Act (the Act) and operates in compliance with the Federal Advisory Committee Act. The purpose of the committee is to improve collaborative relationships and to provide advice and recommendations to the Forest Service concerning projects and funding consistent with Title II of the Act, as well as make recommendations on recreation fee proposals for sites on the Salmon-Challis National Forest, within Custer and Lemhi counties, consistent with the Federal Lands Recreation Enhancement Act.

DATES: An in-person and virtual meeting will be held on May 14, 2024, 9:00 a.m., Mountain Daylight Time (MDT), and on May 30, 2024, 9:00 a.m. MDT.

Written and Oral Comments: Anyone wishing to provide in-person oral comments must pre-register by 11:59 p.m. MDT on May 10, 2024. Written public comments will be accepted by 11:59 p.m. MDT on May 10, 2024. Comments submitted after this date will be provided by the Forest Service to the committee, but the committee may not have adequate time to consider those comments prior to the meeting.

All committee meetings are subject to cancellation. For status of the meeting prior to attendance, please contact the person listed under FOR FURTHER INFORMATION CONTACT.

ADDRESSES: These meetings will be held in-person at the Challis Community Events Center, located at 411 Clinic Road, Challis, Idaho 83226. The public may also join the meetings virtually via telephone or video conference. Committee information and details about the meetings, including links to access the meetings, can be found on the advisory committees web page at https://www.fs.usda.gov/main/scnf/workingtogether/advisorycommittees or by contacting the person listed under FOR FURTHER INFORMATION CONTACT.

Written Comments: Written comments must be sent by email to amy.baumer@usda.gov or via mail (postmarked) to Amy Baumer, 1206 S Challis St., Salmon, Idaho 83467. The Forest Service strongly prefers comments be submitted electronically.

Oral Comments: Persons or organizations wishing to make oral comments must pre-register by 11:59 p.m. MDT, May 10, 2024, and speakers can only register for one speaking slot. Oral comments must be sent by email to amy.baumer@usda.gov or via mail (postmarked) to Amy Baumer, 1206 S Challis St., Salmon, Idaho 83467.

FOR FURTHER INFORMATION CONTACT: Amy Baumer, Central Idaho RAC Coordinator, by phone at 208-756-5100 or via email at amy.baumer@usda.gov.

SUPPLEMENTARY INFORMATION: The purpose of the meeting is to:

1. Hear from Title II project proponents and discuss Title II proposals,

2. Make funding recommendations on Title II projects.

3. Discuss the proposed Salmon-Challis National Forest Recreation Fee Proposal;

4. Make recommendations on recreation fee proposals;

The agenda will include time for individuals to make oral statements of three minutes or less. To be scheduled on the agenda, individuals wishing to make an oral statement should make a request in writing at least three days prior to the meeting date. Written comments may be submitted to the Forest Service up to 14 after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at 202-720-2600 (voice and TTY) or USDA through the Federal Relay Service at 800-877-8339. Additionally, program information may be made available in languages other than English.

USDA programs are prohibited from discriminating based on race, color, national origin, religion, sex, gender identity (including gender expression), sexual orientation, disability, age, marital status, family and parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the committee. To ensure that the recommendations of the committee have taken in account the needs of the diverse groups served by USDA, membership shall include to the extent possible, individuals with demonstrated ability to represent minorities, women, and person with disabilities. USDA is an equal opportunity provider, employer, and lender.

Dated: April 12, 2024.
Cikena Reid,
USDA Committee Management Officer.

[FR Doc. 2024-08308 Filed 4-17-24; 8:45 am]

BILLING CODE 3411-15-P